DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2012 Company Organization Survey.

OMB Control Number: 0607-0444.

Form Number(s): NC-99001, NC-99801.

Type of Request: Extension of a currently approved collection.

Burden Hours: 96,134.

Number of Respondents: 284,000.

Average Hours Per Response: 20 minutes.

Needs and Uses: The Census Bureau requests an extension of the currently approved Company Organization Survey (COS) data collection for the 2012 survey year. The Census Bureau will conduct the 2012 COS in conjunction with the 2012 Economic Census and will coordinate these collections so as to minimize response burden.

The Census Bureau conducts the annual COS to update and maintain a centralized, multipurpose Business Register (BR). In particular, the COS supplies critical information on the organizational structure, operating characteristics, and employment and payroll of multi-location enterprises.

The BR serves two fundamental purposes:

• First and most important, it provides sampling populations and enumeration lists for the Census Bureau's economic surveys and censuses, and it serves as an integral part of the statistical foundation underlying those programs. Essential for this purpose is the BR's ability to identify all known United States business establishments and their parent companies. Further, the BR must accurately record basic business attributes needed to control sampling and enumeration. These attributes include industry and geographic classifications, measures of size and economic activity, ownership characteristics, and contact information (for example, name and address).

• Second, it provides establishment data that serve as the basis for the annual County Business Patterns (CBP) statistical series. The CBP reports present data on number of establishments, first quarter payroll, annual payroll, and mid-March employment summarized by industry and employment size class for the United States, the District of Columbia, island areas, counties, and county-equivalents. No other annual or more frequent series of industry statistics provides comparable detail, particularly for small geographic areas.

Form NC-99001 is mailed to multi-location enterprises. We ask questions on ownership or control by a domestic parent, ownership or control by a foreign parent, and ownership of foreign affiliates; research and development; company activities such as employees from a professional employer organization, operating revenue and net sales, royalties and license fees for the use of intellectual property and manufacturing activities. Establishment inquiries include questions on operational status, mid-March employment, first-quarter payroll, and annual payroll of establishments.

In addition to the mailing of multi-location enterprises, the Census Bureau will collect data for single-location companies on Form NC-99801 to continue to capture data for the Enterprise Statistics Program (ESP). In 2011, we submitted a non-substantive change to the COS questionnaire. This revision added three new inquiries as part of the ESP. These three inquiries were: (1) Operating Revenues and Net Sales; (2) Royalties and Licenses Fees for the Use of Intellectual Property; and (3) Manufacturing Activities. For 2012 it is our intention to continue to ask these additional questions on the COS that we received OMB clearance for in 2011. We also ask questions on ownership or control by a foreign parent, and ownership of foreign affiliates; research and development; royalties and license fees for the use of intellectual property and manufacturing activities.

The consolidated 2012 COS/Census will request company-level information from the entire universe of multi-establishment enterprise, which comprises roughly 164,000 parent companies and more than 1.6 million establishments with industrial activities in-scope of the 2012 Economic Census. COS inquiries sent to each of the 164,000 multi-establishment enterprises will include inquiries on ownership or control by a domestic parent, ownership or control by a foreign parent, and ownership of foreign affiliates; research and development; company activities, such as employees from a professional employer organization, operating revenue and net sales, royalties and license fees for the use of intellectual property, and manufacturing activities. Establishment inquiries include questions on operational status, mid-March employment, first-quarter payroll, and annual payroll of establishments.

The 2012 COS will request additional information from 15,000 multi-location establishments with industry classifications that are out-of-scope of the Economic Census. For those out-of-scope establishments, we will collect the following basic operating data for each listed establishment: End-of-year operating status, mid-March employment, first quarter payroll, and annual payroll. The Economic Census will collect data for all other establishments of multi-establishment enterprises, including those items above.

In addition to the 164,000 multi-establishment enterprises, the 2012 COS will include approximately 120,000 single-location companies (including 20,000 ASM companies) to continue to capture data for the Enterprise Statistics Program (ESP) on Form NC-99801. Questions will include inquiries on ownership or control by a foreign parent, and ownership of foreign affiliates; research and development; royalties and license fees for the use of intellectual property and manufacturing. In 2010 the Census Bureau pretested ESP questions under its Generic Clearance for pretesting research. In 2011 the COS collected data from all multi-location companies and will use these data to baseline the 2012 Economic Census data.

Affected Public: Business or other for-profit; Farms; Not-for-profit institutions; State, local or Tribal Government.

Frequency: Annually.

Respondent's Obligation: Mandatory.

Legal Authority: Title 13 U.S.C., Sections 131, 182, 224, and 225.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: March 23, 2012.
Glenna Mickelson,
Management Analyst, Office of the Chief Information Officer.

[FR Doc. 2012-7417 Filed 3-27-12; 8:45 am]

BILLING CODE 3510-07-P